NATIONAL AERONAUTICS AND SPACE ADMINISTRATION

[Notice: (17-049)]

NASA Advisory Council; Meeting

AGENCY: National Aeronautics and Space Administration.

ACTION: Notice of meeting.

SUMMARY: In accordance with the Federal Advisory Committee Act, as amended, the National Aeronautics and Space Administration (NASA) announces a meeting of the NASA Advisory Council (NAC).

DATES: Thursday, July 27, 2017, 9:00 a.m.-5:15 p.m. EDT. Friday, July 28, 2017, 9:00 a.m.-11:30 a.m. EDT.

ADDRESSES: National Institute of Aerospace, Room 101, 100 Exploration Way, Hampton, VA 23666.

FOR FURTHER INFORMATION CONTACT: Ms. Marla King, NAC Administrative Officer, NASA Headquarters, Washington, DC 20546, (202) 358-1148.

SUPPLEMENTARY INFORMATION: This meeting will be open to the public up to the capacity of the meeting room. This meeting is also available telephonically and by WebEx. You must use a touch-tone phone to participate in this meeting. Any interested person may dial the toll number 1-210-234-0004 or toll free number 1-888-957-9873, and then the numeric passcode: 4568996, followed by the # sign, on both days. Note: If dialing in, please “mute” your phone. To join via WebEx, the link is https://nasa.webex.com/. The meeting number is 993 279 030 and the password is WCQCWX2@ (case sensitive) on both days.

The agenda for the meeting will include reports from the following:

—Aeronautics Committee

—Human Exploration and Operations Committee

—Institutional Committee

—Science Committee

—Technology, Innovation and Engineering Committee

—Ad Hoc Task Force on STEM Education

Attendees will be requested to sign a register. It is imperative that the meeting be held on these dates to the scheduling priorities of the key participants.

Patricia D. Rausch,
Advisory Committee Management Officer, National Aeronautics and Space Administration.

[FR Doc. 2017-14500 Filed 7-10-17; 8:45 am]

BILLING CODE 7510-13-P